DEPARTMENT OF TRANSPORTATION

Federal Aviation Administration

14 CFR Part 71

[Docket No. FAA-2004-18612; Airspace Docket No. 04-AWA-05]

RIN 2120-AA66

Proposed Modification of the Los Angeles Class B Airspace Area; CA

AGENCY: Federal Aviation Administration (FAA), DOT.

ACTION: Notice of proposed rulemaking (NPRM).

SUMMARY: This proposal would modify the Los Angeles (LAX), CA, Class B airspace area. Specifically, this action proposes to expand the eastern boundary of the airspace to ensure containment of the LAX Standard Terminal Arrival Routes (STAR), and correct the inefficiencies of several existing areas identified during public meetings and Southern California TRACON (SCT) reviews of the airspace. The FAA is proposing this action to improve the flow of air traffic, enhance safety, and reduce the potential for midair collision in the LAX Class B airspace area, while accommodating the concerns of airspace users. Further, this effort supports the FAA's national airspace redesign goal of optimizing terminal and en route airspace areas to reduce aircraft delays and improve system capacity.

DATES: Comments must be received on or before May 23, 2005.

ADDRESSES: Send comments about this proposal to the Docket Management System, U.S. Department of Transportation, Room Plaza 401, 400 Seventh Street, SW., Washington, DC 20590-0001. You must write FAA Docket No. FAA-2004-18612 and Airspace Docket No. 04-AWA-05, at the beginning of your comments. You may also submit comments through the Internet at http://dms.dot.gov.

FOR FURTHER INFORMATION CONTACT: Ken McElroy, Airspace and Rules, Office of Air Traffic Airspace Management, Federal Aviation Administration, 800 Independence Avenue, SW., Washington, DC 20591; telephone: (202) 267-8783.

SUPPLEMENTARY INFORMATION:

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2004-18612 and Airspace Docket No. 04-AWA-05) and be submitted in triplicate to the Docket Management System (see ADDRESSES section for address and phone number). You may also submit comments through the Internet at http://dms.dot.gov.

Commenters wishing the FAA to acknowledge receipt of their comments on this action must submit with those comments a self-addressed, stamped postcard on which the following statement is made: “Comments to Docket Nos. FAA-2004-18612 and Airspace Docket No. 04-AWA-05.” The postcard will be date/time stamped and returned to the commenter.

All communications received on or before the specified closing date for comments will be considered before taking action on the proposed rule. The proposal contained in this action may be changed in light of comments received. All comments submitted will be available for examination in the public docket both before and after the closing date for comments. A report summarizing each substantive public contact with FAA personnel concerned with this rulemaking will be filed in the docket.

Availability of NPRM's

An electronic copy of this document may be downloaded through the Internet at http://dms.dot.gov. Recently published rulemaking documents can also be accessed through the FAA's Web page at http://www.faa.gov or the Federal Register's Web page at http://www.gpoaccess.gov/fr/index.html.

You may review the public docket containing the proposal, any comments received, and any final disposition in person in the Dockets Office (see ADDRESSES section for address and phone number) between 9 a.m. and 5 p.m., Monday through Friday, except Federal holidays. An informal docket may also be examined during normal business hours at the office of the Regional Air Traffic Division, Federal Aviation Administration, 15000 Aviation Boulevard, Lawndale, CA 90261.

Persons interested in being placed on a mailing list for future NPRM's should contact the FAA's Office of Rulemaking, (202) 267-9677, for a copy of Advisory Circular No. 11-2A, Notice of Proposed Rulemaking Distribution System, which describes the application procedure.

Background

In July 1971, the FAA issued a final rule establishing the LAX Terminal Control Area (TCA). This area was later renamed as Class B airspace as a result of the Airspace Reclassification Final Rule (56 FR 65638). Since its establishment, the LAX Class B airspace area has undergone several modifications. The current Class B airspace area was developed in the early 1990's and revised in 1996 (96 FR 66902). From January 2003 to February 2004, reviews were conducted by SCT and the results presented to the Southern California Airspace Users Working Group (SCAUWG) at regularly scheduled meetings. These reviews noted several areas where boundary locations and identification could be improved and identified areas in need of modification to ensure the containment of Standard Terminal Arrival Routes (STAR) within the LAX Class B airspace. The proposed LAX Class B airspace area modifications will address these matters.

Public Input

As announced in the Federal Register (68 FR 64832), informal airspace meetings were held on January 20, 2004, at the Embassy Suites Hotel El Segundo, CA; January 22, 2004, at the James Monroe High School, North Hills, CA; January 27, 2004, at the Marriot Hotel, Riverside, CA; and January 29, 2004, at the Costa Mesa Neighborhood Community Center, Costa Mesa, CA. Interested airspace users had an opportunity to present their views and offer suggestions regarding planned modifications to the LAX Class B airspace area. All comments received during the informal airspace meetings and the subsequent comment period was considered in developing this proposal.

Analysis of Comments

Proposed Area N

Five commenters suggested the FAA raise the floor of the proposed area N to 5,500 feet. They stated raising the floor of the proposed area N would allow easier VFR transition for southeast bound aircraft. They considered the 3,500 foot mandatory altitude of the Special Air Traffic Rules Area for southeasterly bound VFR aircraft to be too low, especially at night. Three other commenters suggested the FAA raise the floor of area N from the proposed 5,000 feet to 6,000 feet. They indicated raising the floor would provide additional terrain clearance for aircraft transitioning the Santa Monica Mountains to the southeast, and would also result in the benefit of additional altitudes in the Special Air Traffic Rules Area, which would provide controller workload relief.

The FAA does not agree with these comments. This proposal would not change existing arrival or departure routes or the altitudes used on these routes. Raising the floor of the proposed area N would not provide containment of LAX arrival traffic within the Class B airspace. Additionally, no changes to the Special Air Traffic Rules Area are associated with this proposal, therefore, comments addressing Special Air Traffic Rules Area changes are outside the scope of this proposal.

Several commenters recommended moving the northwestern boundary of proposed area N (originally proposed SMO 253 degree radial) further south to allow VFR flight along the shoreline off of Point Dume.

The FAA agrees. In response to comments requesting more room for VFR flight in the vicinity of Point Dume so that VFR aircraft can follow the shoreline, the proposed southern boundary of area N was moved south, and realigned along the Santa Monica (SMO) VOR 252 degree radial. As proposed, this will provide VFR aircraft the flexibility to navigate over the water along the shoreline near Point Dume.

Proposed Area H

One commenter requested that the FAA raise the 5,000 foot floor over Palos Verdes, to allow more GA access to and from Torrance (TOA) and Hawthorne (HHR) airports. Raising the floor would make some airspace revert to Class E airspace which means pilots would not have to be in contact with ATC. The commenter believes, raising the 5,000 foot floor south of LAX would provide more available altitudes in the Special Air Traffic Rules Area. The commenter maintains that a higher floor would prompt aircraft currently using the Hollywood Park Route to move to the Special Air Traffic Rules Area, where communication with ATC is not required. He believes this would reduce the workload for the controller in the Hollywood Park Route Sector. One commenter suggested that the FAA either re-route LAX turboprop departures landing at Santa Ana (SNA) or Ontario (ONT) around Palos Verdes, or raise the floor altitude of the proposed LAX Class B airspace southeast of LAX (area H) to increase the crossing altitude of turboprop aircraft that overfly Palos Verdes. Four other commenters suggested raising the 5,000 foot floor over the Palos Verdes Peninsula (area H) to 6,000 feet. The Mayor of Palos Verdes Estates requested that the FAA raise the floor of the Class B airspace over the Palos Verdes peninsula to 7,000 feet to reduce noise from turboprop aircraft over flights. Additionally, the Chairman of the Los Angeles Noise Roundtable requested the FAA determine if the 5,000 foot floor above the northern portion of the Palos Verdes Peninsula could be raised in an effort to help reduce noise from overflights of the community.

The FAA does not agree with these requests or suggestions for the following reasons. This proposal does not change existing arrival/departure routes or the altitudes used on these routes. No changes to the Special Air Traffic Rules Area, Hollywood Park Route, or LAX departure routes are associated with this proposal, therefore, comments addressing these items are outside the scope of this proposal. The FAA has reviewed the issue of raising the floor of the proposed area H and determined that such action would result in departure and arrival aircraft exiting the LAX Class B airspace area while in the LAX terminal area. This would not be consistent with safe and efficient management of air traffic in the LAX Class B airspace area. Additionally, the FAA believes the 5,000 foot floor of the LAX Class B in area H provides non-participating aircraft ample airspace for access to, from, or between the TOA and HRR airports, which have field elevations of 103 feet and 66 feet, respectively.

Several commenters suggested publishing airspace block “ID letters” (from the Class B legal description) on the Terminal Area Chart and publishing the VOR radials on the proposed Los Angeles Charted VFR Flyway Planning Routes portion of the Terminal Area Chart, the same as are currently shown on the San Diego Terminal Area Chart. Several commenters stated a preference for visual landmarks.

The FAA agrees with these suggestions, and will publish this information on the Los Angeles Terminal Area Chart and the Los Angeles Charted VFR flyway Planning Chart. Existing landmarks will be retained on the charts.

Existing Areas E, F & G

Numerous comments were received concerning the proposed description. Several commenters suggested using single north/south VOR radials to define the eastern edges of proposed areas E, F, and G, as opposed to the multiple north/south radials presented. Other commenters suggested the FAA simplify the east boundary of the Class B to just 7,000 and 8,000 feet as opposed to 7,000/8,000/9,000 feet as proposed. Another commenter pointed out that it may be difficult to navigate the eastern portion of the Class B on a VFR flight direct to Lake Arrowhead from SNA airport. Some suggested aligning the northern boundary of the Class B with a Pomona (POM) or Ventura (VTU) VOR radials. One comment suggests using a Seal Beach (SLI) radial to define the division south of Long Beach (LGB) as opposed to using the LGB runway 16R extended centerline.

The FAA reviewed the possibilities for using VOR radials to simplify the eastern Class B boundary lines, and agrees that re-alignment of area E, F, and G can be matched with El Toro (ELB) VOR radials. The ELB 332 and ELB 342 radials have been incorporated into the propose description to define areas E, F, and G. However, locations and useable parameters of the Ventura and Pomona VOR's do not allow for their use in defining the northern boundary of the Class B. Moving the western boundary of the proposed area J to match a SLI radial would not provide containment of LAX arrival traffic within the Class B airspace area. Simplifying the east boundary of the Class B to one large 7,000 or 8,000 foot area would take more airspace than needed, creating unnecessary airspace restrictions on non-participating aircraft.

One commenter suggested the FAA redefine easternmost boundaries of proposed, new, and existing areas as DME arcs. Another disagreed with the use of DME arcs and preferred visual landmarks.

The FAA does not agree with the comments concerning DME Arc's, but agrees with the use of visual landmarks to the extent practicable. Class B airspace designed using DME Arc's, exclusive of other options, would not be compatible with operational requirements around LAX. Considering the unique requirements of the LAX terminal area, adopting a Class B design based on circles centered on the airport reference point would create more Class B airspace than necessary and have a negative impact on GA operations.

A commenter suggested modifying the southwest portion of area A, by raising the floor from the current surface to 2,000 feet or moving the area further offshore. Another commenter suggested lowering the ceiling of the LAX class B airspace from 10,000 to 8,000 feet to accommodate small aircraft that cannot climb above 10,000 feet.

The FAA does not agree. Raising the floor of area A, moving it further offshore, or lowering the ceiling of the entire Class B airspace area, would not provide for the containment of arrival or departure aircraft within the confines of the Class B airspace.

Seven comments were received in support of the proposal, the Aircraft Owners and Pilots Association (AOPA) cited the work of the Southern California Airspace User Working Group and the collaborative efforts of the FAA in developing this proposal. They pointed out that the overall modifications will prove beneficial to the general aviation community and result in a reduction of approximately 100 square miles of existing Class B airspace.

The FAA agrees with these comments. This proposal will result in an overall reduction of 100 square miles of existing Class B airspace.

The Proposal

The FAA is proposing an amendment to Title 14 Code of Federal Aviation Regulations (14 CFR) part 71 (part 71) to modify the LAX Class B airspace area. Specifically, this action (depicted on the attached chart) proposes to expand the eastern boundary to ensure the containment of the LAX STAR's within Class B airspace and reconfigure several existing areas, correcting areas of inefficiencies identified during public meetings and during reviews of the existing Class B airspace area by SCT. These proposed modifications reduce the overall size of the LAX Class B airspace area, improve the containment of turbo-jet aircraft within the airspace, and improve the alignment of lateral boundaries with VOR radials and visual landmarks for improved VFR navigation.

The following are the proposed revisions for each area of the LAX Class B airspace area:

Area A: The east/west line along the northwestern boundary will be aligned to the SMO 252(M)/267(T) radial to provide redundant reference for VFR navigation, and allow VFR aircraft to transition along the shoreline at Point Dume.

Area B: No change.

Area C: The east/west and northwest/southeast lines along the southern boundary will be aligned with the SLI 300(M)/315(T) radial and PDZ 252(M)/267(T) radial providing a redundant reference for VFR navigation.

Area D: The east/west line along the southern boundary to will be aligned with the PDZ 252(M)/267(T) radial to provide redundant reference for VFR navigation.

Area E: The east/west line along the southern boundary aligned with the PDZ 252(M)/267(T) radial, and the northern boundary aligned with the SMO 071(M)/086(T) radial. The eastern boundary will be aligned with the ELB 332(M)/347(T) radial. This modification will align the eastern boundary with existing VOR radials to provide redundant reference for VFR navigation, and lowers the floor to 7000 feet, ensuring containment of aircraft descending on the LAX profile.

Area F: The east/west line along the southern boundary will be aligned with the PDZ 252(M)/267(T) radial, and the northern boundary aligned with the SMO 071(M)/086(T) radial. The western boundary will be aligned with Block E of the Class B airspace area along ELB 332(M)/347(T) radial. The eastern boundary will be aligned with the ELB 342(M)/357(T) radial. These modifications will align the boundaries with existing VOR radials providing a redundant reference for VFR navigation, and lower the floor to 8000 feet, ensuring containment of aircraft descending on the LAX profile.

Area G: The east/west line along the southern boundary will be aligned with the PDZ 252(M)/267(T) radial, and the northern boundary will be aligned with the SMO 071(M)/086(T) radial. The western boundary will be aligned with Block F along ELB 342(M)/357(T) radial. The eastern boundary will be aligned with the ELB 352(M)/007(T) radial, and the POM 112(M)/127(T) radial. These modifications will align the boundaries with existing VOR radials providing a redundant reference for VFR navigation. This area will expand the existing LAX Class B airspace area slightly to ensure containment of aircraft descending on the LAX profile.

Area H: The east/west and northwest/southeast lines along the northern boundary will be aligned with the SLI 300(M)/315(T) radial and PDZ 252(M)/267(T) radial to provide a redundant reference for VFR navigation.

Area I: The east/west line along the northern boundary will be aligned with the PDZ 252(M)/267(T) radial to provide a redundant reference for VFR navigation.

Area J: The southern boundary will be aligned with the ELB 226(M)/241(T) radial. The eastern boundary will be shortened to end at the ELB 226(M)/241(T) radial. The western boundaries will be realigned to the LAX 127(M)/142(T) radial and the LGB extended runway 16R centerline. These modifications will align the boundaries with existing VOR radials where possible providing a redundant reference for VFR navigation.

Area K: The southern boundary will be aligned with the ELB 248(M)/263(T) radial to provide a redundant reference for VFR navigation, and the eastern boundary will be realigned with the LGB extended runway 16R centerline.

Area L: The southern boundary will be aligned with the ELB 248(M)/263(T) radial to provide a redundant reference for VFR navigation.

Area M: The northern boundaries will be aligned with the SMO 252(M)/267(T) radial and VNY 220(M)/235(T) radial to provide a redundant reference for VFR navigation.

Area N: The western boundary will be aligned with the VNY 220(M)/235(T) radial. The southern boundary aligned with the SMO 252(M)/267(T) radial. These modifications align the boundaries with existing VOR radials to provide a redundant reference for VFR navigation.

Regulatory Evaluation Summary

Changes to Federal Regulations must undergo several economic analyses. First, Executive Order 12866 directs that each Federal agency shall propose or adopt a regulation only upon a reasoned determination that the benefits of the intended regulation justify its costs. Second, the Regulatory Flexibility Act requires agencies to analyze the economic effect of regulatory changes on small businesses and other small entities. Third, the Office of Management and Budget directs agencies to assess the effect of regulatory changes on international trade. In conducting these analyses, the FAA has determined that this proposed rule: (1) Would generate benefits that justify its circumnavigation costs and is not a “significant regulatory action” as defined in the Executive Order; (2) is not significant as defined in the Department of Transportation's Regulatory Policies and Procedures; (3) would not have a significant impact on a substantial number of small entities; (4) would not constitute a barrier to international trade; and (5) would not contain any Federal intergovernmental or private sector mandate. These analyses are summarized here in the preamble, and the full Regulatory Evaluation is in the docket.

This action would modify the LAX Class B airspace area. The proposed rule would reconfigure the area's lateral boundaries.

This action would generate benefits for system users and the FAA in the form of enhanced operational efficiency and simplified navigation in the LAX terminal area. These modifications would impose some circumnavigation costs on operators who want to remain outside the Class B airspace area. Although the overall impact of our proposal would be to reduce one hundred square miles of the Class B airspace in the eastern most sectors of the Class B airspace there would be some increase Class B airspace where we have proposed to raise the ceiling. Some pilots may choose to circumnavigate the eastern sectors. However, the cost of circumnavigation in the “E” sector is considered to be small. Moreover, the overall impact will reduce circumnavigation costs because of the reduction in the “N” sector. We're also proposing to reduce that sector both laterally and vertically. Thus, the FAA has determined this proposed rule would be cost-beneficial.

Initial Regulatory Flexibility Determination

The Regulatory Flexibility Act of 1980 establishes “as a principle of regulatory issuance that agencies shall endeavor, consistent with the objective of the rule and of applicable statutes, to fit regulatory and informational requirements to the scale of the business, organizations, and governmental jurisdictions subject to regulation.” To achieve that principal, the Act requires agencies to solicit and consider flexible regulatory proposals and to explain the rationale for their actions. The Act covers a wide-range of small entities, including small businesses, not-for-profit organizations and small governmental jurisdictions.

Agencies must perform a review to determine whether a proposed or final rule will have a significant economic impact on a substantial number of small entities. If the determination is that it will, the agency must prepare a regulatory flexibility analysis (RFA) as described in the Act.

However, if an agency determines that a proposed or final rule is not expected to have a significant economic impact on a substantial number of small entities, section 605(b) of the 1980 Act provides that the head of the agency may so certify and an RFA is not required. The certification must include a statement providing the factual basis for this determination, and the reasoning should be clear.

This proposed rule may impose some circumnavigation costs on individuals operating in the LAX terminal area; but the proposed rule would not impose any costs on small business entities. Operators of general aviation aircraft are considered individuals, not small business entities and are not included when performing a regulatory flexibility analysis. Flight schools are considered small business entities. However, the FAA assumes that they provide instruction in aircraft equipped to navigate in Class B airspace given they currently provide instruction in the LAX terminal area. Air taxis are also considered small business entities, but are assumed to be properly equipped to navigate Class B airspace because it is part of their current practice. Therefore, these small entities should not incur any additional costs as a result of the proposed rule. Accordingly, pursuant to the Regulatory Flexibility Act, 5 U.S.C. 605(b), the Federal Aviation Administration certifies this rule would not have a significant economic impact on a substantial number of small entities. The FAA solicits comments from affected entities with respect to this finding and determination.

International Trade Impact Assessment

The Trade Agreement Act of 1979 prohibits Federal agencies from engaging in any standards or related activities that create unnecessary obstacles to the foreign commerce of the United States. Legitimate domestic objectives, such as safety, are not considered unnecessary obstacles. The statute also requires consideration of international standards and where appropriate, that they be the basis for U.S. standards.

The proposed rule is not expected to affect trade opportunities for U.S. firms doing business overseas or for foreign firms doing business in the United States.

Unfunded Mandates Assessment

Title II of the Unfunded Mandates Reform Act of 1995 (the Act), enacted as Public Law 0104-4 on March 22, 1995, requires each Federal agency, to the extent permitted by law, to prepare a written assessment of the effects of any Federal mandate in a proposed or final agency rule that may result in the expenditure of $100 million or more (when adjusted annually for inflation) in any one year by State, local, and tribal governments in the aggregate, or by the private sector. Section 204(a) of the Act, 2 U.S.C. 1534(a), requires the Federal agency to develop an effective process to permit timely input by elected officers (or their designees) of State, local, and tribal governments on a proposed “significant intergovernmental mandate.” A “significant intergovernmental mandate” under the Act is any provision in a Federal agency regulation that would impose an enforceable duty upon State, local, and tribal governments in the aggregate of $100 million (adjusted annually for inflation) in any one year. Section 203 of the Act, 2 U.S.C. 1533, which supplements section 204(a), provides that, before establishing any regulatory requirements that might significantly or uniquely affect small governments, the agency shall have developed a plan, which, among other things, must provide for notice to potentially affected small governments, if any, and for a meaningful and timely opportunity for these small governments to provide input in the development of regulatory proposals.

This proposed rule does not contain any Federal intergovernmental or private sector mandates. Therefore, the requirements of Title II of the Unfunded Mandates Reform Act of 1995 do not apply.

Paperwork Reduction Act

In accordance with the Paperwork Reduction Act of 1980 (Pub. L. 96-511), there are no requirements for information collection associated with this action.

Conclusion

In view of the minimal or zero cost of compliance of this action and the enhancements to operational efficiency, the FAA has determined that this action would be cost-beneficial.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of the Federal Aviation Administration Order 7400.9M, Airspace Designations and Reporting Points, dated August 30, 2004, and effective September 16, 2004, is amended as follows:

Paragraph 3000 Subpart B-Class B Airspace.

* * * * *

AWP CA B Los Angeles, CA [Revised]

Los Angeles International Airport (Primary Airport)

(Lat. 33°56′55″ N., long. 118°24′49″ W.)

Area A. That airspace extending upward from the surface to 10,000 feet MSL beginning at

Lat. 33°59′50″ N., long. 118°44′43″ W.

Lat. 34°00′23″ N., long. 118°32′33″ W.

Lat. 33°57′42″ N., long. 118°27′23″ W. Ballona Creek/Pacific Ocean

Lat. 33°57′42″ N., long. 118°22′10″ W. Manchester/405 Fwy

Lat. 34°01′00″ N., long. 118°15′00″ W.

Lat. 33°55′48″ N., long. 118°13′52″ W. SLI 300(M/315(T)10 DME

Lat. 33°55′51″ N., long. 118°26′05″ W. Imperial Hwy/Pacific Ocean

Lat. 33°45′34″ N., long. 118°27′01″ W. LIMBO intersection

Lat. 33°45′14″ N., long. 118°32′29″ W. INISH intersection to point of beginning.

Area B. That airspace extending upward from 2,000 feet MSL to and including 10,000 feet MSL beginning at

Lat. 34°01′00″ N., long. 118°15′00″ W.

Lat. 34°00′01″ N., long. 118°07′58″ W. Garfield Washington Blvd

Lat. 33°56′10″ N., long. 118°07′21″ W. Stonewood Center

Lat. 33°55′48″ N., long. 118°13′52″ W. SLI 300(M)/315(T) 10 DME to point of beginning.

Area C. That airspace extending upward from 2,500 feet MSL to and including 10,000 feet MSL beginning at

Lat. 33°57′42″ N., long. 118°22′10″ W. Manchester/405 Fwy

Lat. 34°00′20″ N., long. 118°23′05″ W. West Los Angeles College

Lat. 34°02′49″ N., long. 118°21′48″ W.

Lat. 34°06′00″ N., long. 118°14′24″ W. Railroad Freight Yard

Lat. 34°06′00″ N., long. 118°11′23″ W. Ernest E. Debs Regional Park

Lat. 34°02′03″ N., long. 118°03′39″ W. Legg Lake

Lat. 33°58′40″ N., long. 118°01′49″ W. Whittier College

Lat. 33°53′44″ N., long. 118°01′52″ W. PDZ 252(M)/267(T) 25.1

Lat. 33°53′17″ N., long. 118°10′50″ W. Dominguez High School

Lat. 33°55′48″ N., long. 118°13′52″ W. SLI 300(M)/315(T) 10 DME

Lat. 33°56′10″ N., long. 118°07′21″ W. Stonewood Center

Lat. 34°00′01″ N., long. 118°07′58″ W. Garfield/Washington Blvd

Lat. 34°01′00″ N., long. 118°15′00″ W. to point of beginning.

Area D. That airspace extending upward from 4,000 feet MSL to and including 10,000 feet MSL beginning at

Lat. 34°06′00″ N., long. 118°11′23″ W. Ernest E. Debs Regional Park

Lat. 34°00′45″ N., long. 117°54′03″ W.

Lat. 33°57′40″ N., long. 117°53′35″ W.

Lat. 33°54′04″ N., long. 117°54′35″ W. Brea Municipal Golf Course

Lat. 33°53′44″ N., long. 118°01′52″ W. PDZ 252(M)/267(T) 25.1

Lat. 33°58′40″ N., long. 118°01′49″ W. Whittier College

Lat. 34°02′03″ N., long. 118°03′39″ W. Legg Lake to the point of beginning.

Area E. That airspace extending upward from 7,000 feet MSL to and including 10,000 feet MSL beginning at

Lat. 33°54′04″ N., long. 117°54′35″ W. Brea Municipal Golf Course

Lat. 33°54′23″ N., long. 117°47′42″ W.

Lat. 34°02′42″ N., long. 117°50′00″ W. Mt. San Antonio College

Lat. 34°02′22″ N., long. 117°59′23″ W.

Lat. 34°00′45″ N., long. 117°54′03″ W.

Lat. 33°57′40″ N., long. 117°53′35″ W.

Lat. 33°54′04″ N., long. 117°54′35″ W. Brea Municipal Golf Course to point of beginning.

Area F. That airspace extending upward from 8,000 feet MSL to and including 10,000 feet MSL beginning at

Lat. 33°54′23″ N., long. 117°47′42″ W. PDZ 252(M)/267(T) ELB 332(M)/347(T)

Lat. 33°54′31″ N., long. 117°44′45″ W. PDZ 252(M)/267(T) ELB 342(M)/357(T)

Lat. 34°02′57″ N., long. 117°45′16″ W. SMO 071(M)/086(T) ELB 342(M)/357(T)

Lat. 34°02′42″ N., long. 117°50′00″ W. SMO 071(M)/086(T) Mt. San Antonio College to point of beginning.

Area G. That airspace extending upward from 9,000 feet MSL to and including 10,000 feet MSL beginning at

Lat. 33°54′31″ N., long. 117°44′45″ W.

Lat. 33°54′39″ N., long. 117°41′48″ W.

Lat. 34°00′44″ N., long. 117°40′54″ W.

Lat. 34°02′59″ N., long. 117°44′29″ W.

Lat. 34°02′57″ N., long. 117°45′16″ W. to point of beginning.

Area H. That airspace extending upward from 5,000 feet MSL to and including 10,000 feet MSL beginning at

Lat. 33°53′44″ N., long. 118°01′52″ W. PDZ 252(M)/267(T) 25.1

Lat. 33°47′00″ N., long. 118°03′17″ W. Seal Beach VORTAC Los Alamitos AFRC

Lat. 33°46′40″ N., long. 118°08′53″ W. SLI 251(M)/266(T) 4.7

Lat. 33°45′34″ N., long. 118°27′01″ W. LIMBO Intersection/SLI 251(M)/266(T)

Lat. 33°55′51″ N., long. 118°26′05″ W. Imperial Hwy/Pacific Ocean

Lat. 33°55′48″ N., long. 118°13′52″ W. SLI 300(M)/315(T) 10 DME

Lat. 33°53′17″ N., long. 118°10′50″ W. Dominguez High School to point of beginning.

Area I. That airspace extending upward from 6,000 feet MSL to and including 10,000 feet MSL beginning at

Lat. 33°54′04″ N., long. 117°54′35″ W. Brea Municipal Golf Course

Lat. 33°47′23″ N., long. 117°57′40″ W. Garden Grove Mall

Lat. 33°47′00″ N., long. 118°03′17″ W. Seal Beach VORTAC/Los Alamitos AFRC

Lat. 33°53′44″ N., long. 118°01′52″ W. PDZ 252(M)/267(T) 25.1 to point of beginning.

Area J. That airspace extending upward from 7,000 feet MSL to and including 10,000 feet MSL beginning at

Lat. 33°47′23″ N., long. 117°57′40″ W. Garden Grove Mall

Lat. 33°35′52″ N., long. 117°53′59″ W. Newport Bay

Lat. 33°31′34″ N., long. 118°03′11″ W.

Lat. 33°37′56″ N., long. 118°09′04″ W. LAX 127(M)/142(T) 22.7

Lat. 33°46′40″ N., long. 118°08′53″ W. SLI 251(M)/266(T)) 4.7

Lat. 33°47′00″ N., long. 118°03′17″ W. Seal Beach VORTAC/Los Alamitos AFRC to point of beginning.

Area K. That airspace extending upward from 8,000 feet MSL to and including 10,000 feet MSL beginning at

Lat. 33°37′56″ N., long. 118°09′04″ W. LAX 127(M)/142(T) 22.7

Lat. 33°36′09″ N., long. 118°25′38″ W. ELB 249(M)/264(T) 35.1

Lat. 33°45′34″ N., long. 118°27′01″ W. LIMBO Intersection

Lat. 33°46′40″ N., long. 118°08′53″ W. SLI 251(M)/266(T) 4.7 to point of beginning.

Area L. That airspace extending upward from 5,000 feet MSL to and including 10,000 feet MSL beginning at

Lat. 33°36′09″ N., long. 118°25′38″ W. ELB 249(M)/264(T) 35.1

Lat. 33°35′11″ N., long. 118°34′31″ W. ELB 248(M)/263(T) 42.6

Lat. 33°44′27″ N., long. 118°42′23″ W. SLI 251(M)/266(T) 32.7

Lat. 33°45′14″ N., long. 118°32′29″ W. INISH Intersection

Lat. 33°45′34″ N., long. 118°27′01″ W. LIMBO Intersection to point of beginning.

Area M. That airspace extending upward from 2,000 feet MSL to and including 10,000 feet MSL beginning at

Lat. 33°44′27″ N., long. 118°42′23″ W. SLI 251(M)/266(T) 32.7

Lat. 33°58′48″ N., long. 118°54′27″ W. VNY 220(M)/235(T) 25.3

Lat. 33°59′26″ N., long. 118°53′23″ W.

Lat. 33°59′50″ N., long. 118°44′43″ W.

Lat. 33°45′14″ N., long. 118°32′29″ W. INISH Intersection to point of beginning.

Area N. That airspace extending upward from 5,000 feet MSL to and including 10,000 feet MSL beginning at

Lat. 33°59′26″ N., long. 118°53′23″ W.

Lat. 34°06′00″ N., long. 118°42′12″ W.

Lat. 34°06′00″ N., long. 118°14′24″ W. Railroad Freight Yard

Lat. 34°02′49″ N., long. 118°21′48″ W.

Lat. 34°00′20″ N., long. 118°23′05″ W. West Los Angeles College

Lat. 33°57′42″ N., long. 118°22′10″ W. Manchester/405 Hwy

Lat. 33°57′42″ N., long. 118°27′23″ W. Ballona Creek/Pacific Ocean

Lat. 34°00′23″ N., long. 118°32′33″ W. SMO 252(M)/267(T) 4.3

Lat. 33°59′50″ N., long. 118°44′43″ W. to point of beginning.

* * * * *

Issued in Washington DC, on March 3, 2005.
Edith V. Parish,
Acting Manager, Airspace and Rules.

BILLING CODE 4910-13-P

[FR Doc. 05-5095 Filed 3-23-05; 8:45 am]

BILLING CODE 4910-13-C